FEDERAL COMMUNICATIONS COMMISSION

Notice of Public Information Collection(s) Being Reviewed by the Federal Communications Commission

April 26, 2000.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before June 1, 2000. If you anticipate that you will be submitting comments, but find it difficult to do so within the period of time allowed by this notice, you should advise the contact listed below as soon as possible.

ADDRESSES: Direct all comments to Judy Boley, Federal Communications Commission, Room 1-C804, 445 12th Street, SW, DC 20554 or via the Internet to jboley@fcc.gov.

FOR FURTHER INFORMATION CONTACT: For additional information or copies of the information collection(s), contact Judy Boley at 202-418-0214 or via the Internet at jboley@fcc.gov.

SUPPLEMENTARY INFORMATION: OMB Control No.: 3060-0734.

Title: Accounting Safeguards, CC Docket 96-150, (47 U.S.C. Sections 260, 271-276 and 47 CFR Sections 53.209, 53.211 and 53.213).

Form No.: SEC 10-K Form.

Type of Review: Revision of a currently approved collection.

Respondents: Business or other for-profit.

Number of Respondents: 27.

Estimated Time Per Response: 1 hour to 6,056 hours.

Frequency of Response: Biennial, annual and on occasion reporting requirements, third party disclosure requirement, recordkeeping requirement.

Total Annual Burden: 172,560 hours.

Total Annual Cost: $633,000.

Needs and Uses: In the Report and Order in CC Docket 96-150, the Commission addressed the accounting safeguards necessary to satisfy the requirements of Sections 260 and 271 through 276 of the Telecommunications Act of 1996. The Report and Order prescribed the way ILECs, including the BOCs, must account for transactions with affiliates involving, and allocate costs incurred in the provision of, both regulated telecommunications services and nonregulated services, including telemessaging, interLATA telecommunications and information services, telecommunications equipment and CPE manufacturing and others. The information collected under this submission enables the Commission to ensure that the subscribers to regulated telecommunications services do not bear the costs of these new nonregulated services and that transactions between affiliates and carriers will be at prices that do not ultimately result in unfair rates being charged to ratepayers.

OMB Control No.: 3060-0463.

Title: Telecommunications Services for Individuals with Hearing and Speech Disabilities and the Americans with Disabilities Act of 1990, 47 CFR Part 64 (Sections 64.601-64.605).

Form No.: N/A.

Type of Review: Revision of a currently approved collection.

Respondents: Business or other for-profit, state, local or tribal government.

Number of Respondents: 5,052.

Estimated Time Per Response: .166 hours to 365 hours.

Frequency of Response: Annual, on occasion, and every 5 years reporting requirements, recordkeeping requirement, third party disclosure requirement.

Total Annual Burden: 26,832 hours.

Total Annual Cost: N/A.

Needs and Uses: Title IV of the ADA requires the Commission to ensure that telecommunications relay services are available to persons with hearing and speech disabilities in the United States. The Commission is required by 44 U.S.C. 225(d)(3) to enact and oversee a shared-funding mechanism (TRS Fund) for recovering the costs of providing interstate TRS. The Commission recently modified its rules to, among other things, require the notification of substantive changes to a state's TRS program and to allow for the filing of informal complaints. The information is needed to ensure compliance with agency policy.

Federal Communications Commission.
Magalie Roman Salas,
Secretary.

[FR Doc. 00-10891 Filed 5-1-00; 8:45 am]

BILLING CODE 6712-01-U